DEPARTMENT OF COMMERCE

International Trade Administration

NextGen Solutions Vendors Guide

AGENCY: International Trade Administration, Commerce.

ACTION: Notice and request for response.

SUMMARY: This notice sets forth a request for responses from U.S. vendors capable of exporting goods or services for the implementation of Next Generation Air Transportation System (NextGen) solutions that meet the requirements of the International Civil Aviation Organization's (ICAO) Aviation System Block Upgrade (ASBU) initiative. The NextGen solutions address the ICAO ASBU-designated performance improvement areas of: (a) Airport operations, (b) globally interoperable systems and data, (c) optimum capacity and flexible flights, and (d) efficient flight paths. In addition, this request seeks responses from (e) the knowledge and service providers who can facilitate these solutions. The International Trade Administration (ITA) of the Department of Commerce is developing a web-based NextGen Solutions Vendors Guide intended to be used by foreign air navigation service providers, airport operators, and governmental authorities to identify U.S. goods and services that can be used to help implement ICAO-consistent NextGen solutions. The guide will highlight the U.S. producers and suppliers who indicate that they have products that can be used to implement one or more of the listed NextGen solutions. The NextGen Solutions Vendors Guide will support the President's National Export Initiative by fostering export opportunities for the U.S. air navigation equipment and services industry.

DATES: U.S. vendors capable of exporting goods or services relevant to the NextGen solutions outlined above that are interested in participating in the NextGen Solutions Vendors Guide should self-identify by March 29, 2013, at 5:00 p.m. Eastern Daylight Time (EDT).

ADDRESSES: Please indicate interest in participating in the NextGen Solutions Vendors Guide by post or email to the attention of Jonathan Alvear, Office of Transportation and Machinery, International Trade Administration, U.S. Department of Commerce, 1401 Constitution Ave. NW., Room 4036, Washington, DC 20230; 202-482-4125; email NextGenVendors@trade.gov. Electronic responses should be submitted in Microsoft Word format.

FOR FURTHER INFORMATION CONTACT: Mr. Jonathan Alvear, Office of Transportation and Machinery (OTM), International Trade Administration, Room 4036, 1401 Constitution Avenue NW., Washington, DC 20230. (Phone: 202-482-4125; email: Jonathan.Alvear@trade.gov).

SUPPLEMENTARY INFORMATION: The development of the NextGen Solutions Vendors Guide requires the identification of U.S. vendors capable of supplying relevant goods and services to foreign buyers. United States vendors of NextGen goods and services interested in being listed on the Vendors Guide Web site should submit their company's name, Web site address, contact information, and aviation solution category (or categories) of interest from the following list:

(a) Airport operations

Example: Airport Accesibility—Optimization of Approach Procedures including vertical guidance

(b) Globally interoperable systems and data

Example: Digital Aeronautical Information Management—Service Improvement through Integration of all Digital ATM Information

(c) Optimum capacity and flexible flights

Example: Optimum Flight Levels—Improved Access to Optimum Flight Levels through Climb/Descent Procedures using ADS-B

(d) Efficient flight paths

Example: Trajectory-Based Operations—Improved Safety and Efficiency through the initial application of Data Link En-Route

(e) Knowledge and service providers (related to aviation system upgrades)

Example: Engineering Services

More information on the four ICAO ASBU-designated performance improvement areas can be found at http://www.icao.int/Meetings/anconf12/Documents/ASBU.en.july%202012.pdf

Responding to this notice will serve as a certification that the vendor named in the response is a United States exporter, as defined by 15 U.S.C. 4721(j), and seeks to export NextGen solutions that fall within the category or categories indicated in the response.

For purposes of this certification, “United States exporter” has the meaning found in 15 U.S.C. 4721(j), which provides: “United States exporter means (A) a United States citizen; (B) a corporation, partnership, or other association created under the laws of the United States or of any State; or (C) a foreign corporation, partnership, or other association, more than 95 percent of which is owned by persons described in subparagraphs (A) and (B), that exports, or seeks to export, goods or services produced in the United States.”

Responding to this notice constitutes consent to participate in the Vendors Guide and to the public sharing of the vendor's name. It also constitutes consent to the inclusion of the name of the vendor on the Vendors Guide Web site. The vendor name will be listed next to the self-identified aviation solution category(ies) indicated in the response, along with a link to the vendor-specific Web site included in the response. No additional vendor information will be posted.

The NextGen Solutions Vendors Guide is intended to refer users in foreign markets to U.S. producers and suppliers that seek to promote U.S. exports related to one or more of the listed NextGen solutions that can help to fulfill the requirements of the ICAO ASBU initiative. The Vendors Guide Web site will note that it is not an exhaustive list of all U.S. vendors in this sector and that listing on the web site does not constitute endorsement of the vendor or business or its products, services or technology by ITA. ITA reserves the right not to list any vendor.

Dated: January 30, 2013.
Thomas Sobotta,
Director (Acting), Office of Transportation and Machinery.

[FR Doc. 2013-02406 Filed 2-4-13; 8:45 am]

BILLING CODE 3510-DR-P